DEPARTMENT OF THE INTERIOR

Bureau of Ocean Energy Management

[Docket No. BOEM-2024-0009]

Notice of Intent To Prepare an Environmental Impact Statement for the Proposed Vineyard Northeast Project on the U.S. Outer Continental Shelf Offshore Massachusetts

AGENCY: Bureau of Ocean Energy Management, Interior.

ACTION: Notice of intent to prepare an environmental impact statement; request for comments.

SUMMARY: The Bureau of Ocean Energy Management (BOEM) announces its intent to prepare an environmental impact statement (EIS) for a construction and operations plan (COP) of a proposed offshore wind energy project submitted by Vineyard Northeast, LLC (Vineyard Northeast). This notice of intent (NOI) initiates the public scoping and comment process under the National Environmental Policy Act (NEPA), section 106 of the National Historic Preservation Act (NHPA), and their respective implementing regulations. Vineyard Northeast proposes to construct and operate the project in Renewable Energy Lease Area OCS-A 0522 (Lease Area), which encompasses approximately 132,370 acres and is located approximately 29 miles from Nantucket and approximately 39 miles from Martha's Vineyard, offshore of Massachusetts. Vineyard Northeast proposes to develop the entire Lease Area.

DATES: Your comments must be received by BOEM no later than May 9, 2024 for timely consideration. BOEM will hold two in-person and two virtual public scoping meetings at the following dates and times (eastern time):

In Person:

• Wednesday, April 17, 2024, 5 p.m.-9 p.m., Clark Auditorium, Mitchell College, 437 Pequot Avenue, New London, Connecticut 06320; and

• Thursday, April 18, 2024, 5 p.m.-9 p.m., Westport High School Cafeteria, 17 Main Road, Westport, Massachusetts 02790.

Virtual:

• Monday, April 15, 2024, 1 p.m.-ending; and

• Monday, April 22, 2024, 5 p.m.-ending.

Registration for the virtual public meetings may be completed here: https://www.boem.gov/renewable-energy/state-activities/vineyard-northeast or by calling (888) 788-0099 (toll free). Registration for in-person meetings will occur on site. The meetings are open to the public and free to attend.

ADDRESSES: Written comments can be submitted in any of the following ways:

• Delivered by U.S. mail or other delivery service, enclosed in an envelope labeled “Vineyard Northeast EIS” and addressed to Heather Schultz, NEPA Coordinator, Environment Branch for Renewable Energy, Bureau of Ocean Energy Management, 45600 Woodland Road, VAM-OREP, Sterling, Virginia 20166; or

• Through the regulations.gov web portal: Navigate to https://www.regulations.gov and search for Docket No. BOEM-2024-0009. Select the document in the search results on which you want to comment, click on the “Comment” button, and follow the online instructions for submitting your comment. A commenter's checklist is available on the comment web page. Enter your information and comment, then click “Submit.”

For more information about submitting comments, please see the “Public Participation” heading under Supplementary Information.

Detailed information about the proposed Project, including the COP, and instructions for making written comments, can be found on BOEM's website at: https://www.boem.gov/renewable-energy/state-activities/vineyard-northeast.

FOR FURTHER INFORMATION CONTACT: Heather Schultz, Office of Renewable Energy Programs, Bureau of Ocean Energy Management, 45600 Woodland Road, Sterling, Virginia 20166, telephone (571) 396-1485, or email heather.schultz@boem.gov.

SUPPLEMENTARY INFORMATION:

Purpose of and Need for the Proposed Action

In Executive Order 14008, “Tackling the Climate Crisis at Home and Abroad,” issued on January 27, 2021, President Joseph R. Biden stated that the policy of his administration is “to organize and deploy the full capacity of its agencies to combat the climate crisis to implement a Government-wide approach that reduces climate pollution in every sector of the economy; increases resilience to the impacts of climate change; protects public health; conserves our lands, waters, and biodiversity; delivers environmental justice; and spurs well-paying union jobs and economic growth, especially through innovation, commercialization, and deployment of clean energy technologies and infrastructure.”

Through a competitive leasing process conducted under 30 CFR 585.211, BOEM awarded Vineyard Northeast the Lease Area OCS-A 0522, covering an area on the Outer Continental Shelf (OCS) offshore Massachusetts. Vineyard Northeast has the exclusive right to submit a COP for activities within the Lease Area. Vineyard Northeast has submitted a COP to BOEM proposing the construction, operation, and conceptual decommissioning of an offshore wind energy facility in Lease Area OCS-A 0522 (the Project).

Vineyard Northeast's goal is to develop a commercial-scale, offshore wind energy project in the Lease Area. The proposed action includes a maximum of 160 positions occupied by up to 160 WTGs and up to 3 ESPs, or some combination thereof, within the Lease Area. Up to three of those positions would be occupied by ESPs and the remaining positions would be occupied by WTGs. In addition, the proposed action includes a potential booster station in the northwestern part of Lease Area OCS-A 0534. Three ESP concepts are included in the project design envelope: high voltage, direct current (HVDC) ESP; high voltage, alternating current ESP + booster station; and integrated ESP. If two or three ESPs are used, they may be co-located at the same grid position (co-located ESPs would only be installed on monopiles).

The integrated ESP concept entails placing ESP equipment on one or more expanded WTG foundation platforms rather than having a separate ESP situated on its own foundation. With this concept, the ESP electrical equipment may be placed on numerous (i.e., more than three) WTG foundations.

The proposed project would have a minimum nameplate capacity of 2,600 megawatts (MW) and two offshore export cable corridors (OECCs)—one to Connecticut and one to Massachusetts—and associated onshore transmission systems.

Vineyard Northeast is actively seeking one or more offshore renewable energy certificate (OREC) or power purchase agreement (PPA) awards for this project. Vineyard Northeast is seeking approval of phase 1 in this COP, and the EIS to which this NOI applies covers only phase 1 as described above.

Vineyard Northeast has also provided BOEM with a high-level description of potential future activities they may undertake as a latter phase 2. However, those activities are not under consideration in this EIS and are not subject to a final BOEM decision on this COP. Rather, phase 2 is discussed as a potential future activity for which Vineyard Northeast would need to submit a revised or additional COP, which would be subject to additional review under NEPA and other relevant laws.

This proposed Project is intended to contribute to Connecticut's mandate of 2,000 MW of offshore wind energy by 2030, as outlined in Connecticut Public Act 19-71, and to Massachusetts's goal to solicit proposals to contract for 5,600 MW of offshore wind energy by 2027, a goal that was substantially increased from the 1,600 MW target announced in the 2016 Act to Promote Energy Diversity (in accordance with section 83C of Massachusetts's Green Communities Act as added by Chapter 188 of the Acts of 2016, An Act to Promote Energy Diversity [section 83C]). This Project may also contribute to the clean energy mandates of Rhode Island (pursuant to the Affordable Clean Energy Security Act, R.I. Gen. Laws 39-31-5, as amended effective July 1, 2022) and New York State (pursuant to the Climate Leadership and Community Protection Act).

Based on BOEM's authority under the Outer Continental Shelf Lands Act (OCSLA) to authorize renewable energy activities on the OCS, Executive Order 14008, and the goal of the administration to deploy 30 gigawatts (GW) of offshore wind in the United States by 2030, while protecting biodiversity and promoting ocean co-use,¹ and in consideration of the goals of the applicant, the purpose of BOEM's action is to determine whether to approve, approve with modifications, or disapprove Vineyard Northeast's COP. BOEM will make this determination after weighing the factors in subsection 8(p)(4) of OCSLA that are applicable to plan decisions and in consideration of the above goals. BOEM's action is needed to fulfill its duties under the lease, which require BOEM to make a decision on the lessee's plan to construct and operate a commercial-scale offshore wind energy facility in the Lease Area, in accordance with the relevant regulations in 30 CFR part 585.

¹ Fact Sheet: Biden Administration Jumpstarts Offshore Wind Energy Projects to Create Jobs | Interior, Energy, Commerce, and Transportation Departments Announce New Leasing, Funding, and Development Goals to Accelerate and Deploy Offshore Wind Energy and Jobs | The White House https://www.whitehouse.gov/briefing-room/statements-releases/2021/03/29/fact-sheet-biden-administration-jumpstarts-offshore-wind-energy-projects-to-create-jobs/.

In addition, the National Oceanic and Atmospheric Administration's (NOAA's) National Marine Fisheries Service (NMFS) anticipates one or more requests for authorization under the Marine Mammal Protection Act (MMPA) to take marine mammals incidental to construction activities related to the Project. NMFS' issuance of an MMPA incidental take authorization would be a major Federal action connected to BOEM's action (40 CFR 1501.9(e)(1)). The purpose of the NMFS action—which is a direct outcome of Vineyard Northeast's request for authorization to take marine mammals incidental to specified activities associated with the proposed Project (e.g., pile driving)—is to evaluate Vineyard Northeast's request pursuant to specific requirements of the MMPA and its implementing regulations administered by NMFS, considering impacts of the applicant's activities on relevant resources, and if appropriate, issue the permit or authorization. NMFS needs to render a decision regarding the request for authorization due to NMFS' responsibilities under the MMPA (16 U.S.C. 1371(a)(5)(A)) and its implementing regulations. If NMFS makes the findings necessary to issue the requested authorization, NMFS intends to adopt, after independent review, BOEM's EIS to support that decision and fulfill its NEPA requirements.

The U.S. Army Corps of Engineers (USACE) New England District anticipates requests for authorizing a permit action to be undertaken through authority delegated to the District Engineer by 33 CFR 325.8, under section 10 of the Rivers and Harbors Act of 1899 (RHA) (33 U.S.C. 403), section 404 of the Clean Water Act (CWA) (33 U.S.C. 1344), and, as required, section 103 of the Marine Protection, Research, and Sanctuaries Act of 1972 (33 U.S.C. 1413). In addition, it is anticipated that a section 408 permission may be required pursuant to section 14 of the RHA (33 U.S.C. 408) for any proposed alterations that have the potential to alter, occupy, or use any federally authorized civil works projects. The USACE considers issuance of permits/permissions under these four delegated authorities to be a major Federal action connected to BOEM's action (40 CFR 1501.9(e)(1)). The need for the project, as provided by the applicant in section 1.2 of the COP and reviewed by USACE for NEPA purposes, is to provide a commercially viable offshore wind energy project within Lease OCS-A 0522 to meet northeastern states' and other users' demand for clean energy. The basic project purpose, as determined by USACE for section 404(b)(1) guidelines evaluation, is offshore wind energy generation. The overall project purpose for section 404(b)(1) guidelines evaluation, as determined by USACE, is the construction and operation of a commercial-scale offshore wind energy project for renewable energy generation in Lease OCS-A 0522 within the Massachusetts Wind Energy Area and transmission/distribution to the Connecticut and Massachusetts energy grids.

The purpose of USACE section 408 action as determined by Engineer Circular 1165-2-220 is to evaluate the applicant's request and determine whether the proposed alterations are injurious to the public interest or impair the usefulness of a USACE project. USACE section 408 permission is needed to ensure that congressionally authorized projects continue to provide their intended benefits to the public.

USACE intends to adopt BOEM's EIS to support its decision on any permits and permissions requested under section 10 of the RHA, section 404 of the CWA, section 14 of the RHA, and section 103 of the MPRSA. The USACE would adopt the EIS per 40 CFR 1506.3 if, after its independent review of the document, it concludes that the EIS satisfies the USACE's comments and recommendations. Based on its participation as a cooperating agency and its consideration of the final EIS, the USACE would issue a record of decision to formally document its decision on the proposed action.

Proposed Action and Preliminary Alternatives

Vineyard Northeast proposes to develop, construct, and operate offshore renewable wind energy facilities BOEM Lease Area OCS-A 0522 along with associated offshore and onshore transmission systems. The proposed action includes a maximum of 160 positions occupied by up to 160 WTGs and up to 3 ESPs, or some combination thereof, within the Lease Area. Up to three of those positions would be occupied by ESPs and the remaining positions would be occupied by WTGs. In addition, the proposed action includes a potential booster station in the northwestern aliquot of Lease Area OCS-A 0534. Two offshore OECCs—the Massachusetts OECC and the Connecticut OECC—would connect the renewable wind energy facilities to onshore transmission systems in Massachusetts and Connecticut.

Vineyard Northeast is considering monopile and piled-jacket foundation types to support the WTGs and ESPs. Each ESP and booster station topside would be supported by a monopile or a piled jacket foundation. The ESP(s) may be located at any proposed position. If two or three ESPs are used, they may be located at separate positions or two of the ESPs may be co-located at one of the potential grid positions. Up to two HVDC cable bundles or up to three high voltage alternating current (HVAC) cables may be installed within the Massachusetts OECC. Up to two HVDC offshore export cable bundles may be installed within the Connecticut OECC. If HVAC offshore export cables are installed within the Massachusetts OECC, the cables would connect to the above-noted booster station.

BOEM will evaluate reasonable alternatives to the proposed action that are identified during the scoping period and included in the draft EIS, including a No Action Alternative. Under the No Action Alternative, BOEM would disapprove the Vineyard Northeast COP, and the proposed wind energy facility described in the COP would not be built within the Lease Area.

In addition to the proposed action and the no action alternative (i.e., disapproval of the COP), potential alternatives that the draft EIS could analyze include the following preliminary alternatives:

• Modified Layout Alternative: Design layout to minimize potential impacts to cultural, visual, navigation, and other resource values.

• Nantucket Shoals Minimization Alternative: BOEM intends to design an alternative to avoid and minimize potential impacts to protected species and habitats around Nantucket Shoals.

• Habitat/Fisheries Impact Minimization Alternative: BOEM intends to examine alternatives that would reduce potential impacts to fish habitats and fishing activities.

After completing the EIS and associated consultations, BOEM will decide through a record of decision (ROD) whether to approve, approve with modification, or disapprove the Vineyard Northeast Project COP. If BOEM approves the COP, Vineyard Northeast must comply with all conditions of approval.

Summary of Potential Impacts

The draft EIS will identify and describe the potential effects of the proposed action and the alternatives on the human environment. Those potential effects must be reasonably foreseeable and must have a reasonably close causal relationship to the proposed action and the alternatives. Such effects include those that occur at the same time and place as the proposed action and alternatives, as well as those that are later in time or occur in a different place. Potential effects include, but are not limited to, beneficial or adverse impacts on: air quality, water quality, bats, benthic habitat, essential fish habitat, invertebrates, finfish, birds, marine mammals, terrestrial and coastal habitats and fauna, sea turtles, wetlands and other waters of the United States, commercial fisheries and for-hire recreational fishing, cultural resources, Tribal issues of concern, demographics, employment, economics, environmental justice, land use and coastal infrastructure, navigation and vessel traffic, other marine uses, recreation and tourism, and visual resources. These potential effects will be analyzed in the draft and final EIS.

Based on a preliminary evaluation of the resources listed in the preceding paragraph, BOEM expects potential impacts on sea turtles and marine mammals from underwater noise caused by construction and from collision risks with Project-related vessel traffic. Structures installed by the Project could permanently change benthic and fish habitats (e.g., creation of artificial reefs). Commercial fisheries and for-hire recreational fishing could be impacted. Project structures above the water could affect the visual character defining historic properties and recreational and tourism areas. Project structures also would pose an allision and height hazard to vessels passing close by, and vessels would, in turn, pose a hazard to the structures. Additionally, the Project could cause conflicts with military activities, air traffic, land-based radar services, cables and pipelines, and scientific surveys. The EIS will analyze all significant impacts, as well as potential measures that would avoid, minimize, or mitigate identified non-beneficial impacts.

Beneficial impacts are also expected by facilitating achievement of State renewable energy goals, increasing job opportunities, improving air quality, and addressing climate change. The construction of Vineyard Northeast is also estimated to generate at least ~$1.63 billion in total labor income and ~$4.65 billion in output. The operation of Vineyard Northeast is projected to generate approximately 17,046 full-time equivalent (FTE) job-years assuming a 30-year operational life (equivalent to 568 direct, indirect, and induced FTEs annually), as well as at least ~$1.19 billion in total annual labor income and ~$4.62 billion in output.

(i) Anticipated Permits and Authorizations

In addition to the requested COP approval, various other Federal, State, and local authorizations will be required for the Project. Applicable Federal laws include the Endangered Species Act, Magnuson‐Stevens Fishery Conservation and Management Act, MMPA, RHA, CWA, Clean Air Act section 328, and the Coastal Zone Management Act. BOEM will also conduct government-to-government Tribal consultations. For a detailed listing of regulatory requirements applicable to the Project, please see the COP, Volume I, available at https://www.boem.gov/renewable-energy/state-activities/vineyard-northeast.

(ii) BOEM has chosen to use the NEPA process to fulfill its obligations under the NHPA. While BOEM's obligations under the NHPA and NEPA are independent, regulations implementing section 106 of the NHPA allow the NEPA process and documentation to substitute for various aspects of the NHPA review. See 36 CFR 800.8(c). This process is intended to improve efficiency, promote transparency and accountability, and support a broadened discussion of potential effects that the Project could have on the human environment. During preparation of the EIS, BOEM will ensure that the NEPA process will fully meet all NHPA obligations.

(iii) Schedule for the Decision-Making Process

After the draft EIS is completed, BOEM will publish a notice of availability (NOA) and request public comments on the draft EIS. BOEM currently expects to issue the NOA for the draft EIS in May 2025. After the public comment period ends, BOEM will review and respond to comments received and will develop the final EIS. BOEM currently expects to make the final EIS available to the public in February 2026. A ROD will be completed no sooner than 30 days after the final EIS is released, in accordance with 40 CFR 1506.11.

This Project is a “covered project” under section 41 of the Fixing America's Surface Transportation Act (FAST-41). FAST-41 provides increased transparency and predictability by requiring Federal agencies to publish comprehensive permitting timetables for all covered projects. FAST-41 also provides procedures for modifying permitting timetables to address the unpredictability inherent in the environmental review and permitting process for significant infrastructure projects. To view the FAST-41 Permitting Dashboard for the Project, visit: https://www.permits.performance.gov/permitting-project/fast-41-covered-projects/vineyard-northeast.

Scoping Process

This NOI commences the public scoping process to identify issues and potential alternatives for consideration in the Vineyard Northeast EIS. BOEM will hold two in-person and two virtual public scoping meetings at the times and dates described above under the DATES heading. Throughout the scoping process, Federal agencies, Tribes, State and local governments, and the public will have the opportunity to help BOEM identify significant resources and issues, impact-producing factors, reasonable alternatives (e.g., size, geographic, seasonal, or other restrictions on the construction and siting of facilities and activities), and potential mitigation measures to be analyzed in the EIS, as well as to provide additional information.

As noted above, BOEM will use the NEPA process to comply with the NHPA. BOEM will consider all written requests from individuals and organizations to participate as consulting parties under the NHPA and, as discussed below, will determine who among those parties will be a consulting party in accordance with NHPA regulations.

NEPA Cooperating Agencies

BOEM invites other Federal agencies and State and local governments to consider becoming cooperating agencies and invites federally recognized Tribes to become cooperating Tribal governments in the preparation of this EIS. The Council on Environmental Quality (CEQ) NEPA regulations specify that cooperating agencies and governments are those with “jurisdiction by law or special expertise.” Potential cooperating agencies should consider their authority and capacity to assume the responsibilities of a cooperating agency and should be aware that an agency's role in the environmental analysis neither enlarges nor diminishes the final decision-making authority of any other agency involved in the NEPA process.

BOEM has provided potential cooperating agencies with a written summary of expectations for cooperating agencies, including schedules, milestones, responsibilities, scope and detail of cooperating agencies' expected contributions, and availability of pre-decisional information. BOEM anticipates that this summary will form the basis for a memorandum of agreement between BOEM and any non-Department of the Interior cooperating agency. Agencies should also consider the factors for determining cooperating agency status in the CEQ memorandum entitled “Cooperating Agencies in Implementing the Procedural Requirements of the National Environmental Policy Act,” dated January 30, 2002. This document is available at: https://www.energy.gov/sites/prod/files/nepapub/nepa_documents/RedDont/G-CEQ-CoopAgenciesImplem.pdf. BOEM, as the lead agency, does not provide financial assistance to cooperating agencies.

Governmental entities that are not cooperating agencies will have opportunities to provide information and comments to BOEM during the public input stages of the NEPA process.

NHPA Consulting Parties

Individuals and organizations with a demonstrated interest in the Project can request to participate as NHPA consulting parties under 36 CFR 800.2(c)(5) based on their legal or economic stake in historic properties affected by the Project.

Before issuing this NOI, BOEM compiled a list of potential consulting parties and invited them to become consulting parties. To become a consulting party, those invited must respond in writing by the requested response date.

Interested individuals and organizations that did not receive a written invitation can request to be consulting parties by writing to the staff NHPA contact at SWCA Environmental Consultants (SWCA), the third-party EIS contractor supporting BOEM in its administration of this review. SWCA's NHPA contact for this review is Jonathan Libbon at JLibbon@swca.com. BOEM will determine which interested parties should be consulting parties.

Public Participation

Federal agencies, Tribes, State and local governments, and other interested parties are requested to comment on the scope of this EIS, significant issues that should be addressed, and alternatives that should be considered.

Information on Submitting Comments

a. Freedom of Information Act

BOEM will protect privileged or confidential information that you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment. Information that is not labeled as privileged or confidential may be regarded by BOEM as suitable for public release.

BOEM will not treat as confidential any aggregate summaries of such information or comments not containing such privileged or confidential information.

b. Personally Identifiable Information (PII)

BOEM discourages anonymous comments. Please include your name and address as part of your comment. You should be aware that your entire comment, including your name, address, and any other personally identifiable information included in your comment, may be made publicly available. All comments from individuals, businesses, and organizations will be available for public viewing on regulations.gov.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this notice, your submission is subject to FOIA. If your submission is requested under FOIA, your information will only be withheld if a determination is made that one of FOIA's exemptions to disclosure applies. Such a determination will be made in accordance with the Department of the Interior's FOIA regulations and applicable law.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of the NHPA as confidential.

(iv) Request for Identification of Potential Alternatives, Information, and Analyses Relevant to the Proposed Action

BOEM requests data, comments, views, information, analysis, alternatives, or suggestions relevant to the proposed action from: the public; affected Federal, Tribal, State, and local governments, agencies, and offices; the scientific community; industry; or any other interested party. Specifically, BOEM requests information on the following topics:

1. Potential effects on biological resources, including bats, birds, coastal fauna, finfish, invertebrates, essential fish habitat, marine mammals, and sea turtles.

2. Potential effects on physical resources and conditions including air quality, water quality, wetlands, and other waters of the United States.

3. Potential effects on socioeconomic and cultural resources, including commercial fisheries and for-hire recreational fishing, demographics, employment, economics, environmental justice, land use and coastal infrastructure, navigation and vessel traffic, other uses (marine minerals, military use, aviation), recreation and tourism, and scenic and visual resources.

4. Other possible reasonable alternatives to the proposed action that BOEM should consider, including additional or alternative avoidance, minimization, and mitigation measures.

5. As part of its compliance with NHPA section 106 and its implementing regulations (36 CFR part 800), BOEM seeks comment and input from the public and consulting parties regarding the identification of historic properties within the proposed action's area of potential effects, the potential effects on those historic properties from the activities proposed in the COP, and any information that supports identification of historic properties under NHPA. BOEM also solicits proposed measures to avoid, minimize, or mitigate any adverse effects on historic properties. BOEM will present available information regarding known historic properties during the public scoping period at https://www.boem.gov/renewable-energy/state-activities/vineyard-northeast. BOEM's effects analysis for historic properties will be available for public and consulting party comment with the draft EIS.

6. Information on other current or planned activities in, or in the vicinity of, the Project, their possible impacts on the Project, and the Project's possible impacts on those activities.

7. Other information relevant to the proposed action and its impacts on the human environment.

To promote informed decision-making, comments should be as specific as possible and should provide as much detail as necessary to meaningfully and fully inform BOEM of the commenter's position. Comments should explain why the issues raised are important to the consideration of potential environmental impacts and possible alternatives to the proposed action, as well as economic, employment, and other impacts affecting the quality of the human environment.

The draft EIS will include a summary of all alternatives, information, and analyses submitted during the scoping process for consideration by BOEM and the cooperating agencies.

(Authority: 42 U.S.C. 4321 et seq., and 40 CFR 1501.9)

Karen Baker,
Chief, Office of Renewable Energy Programs, Bureau of Ocean Energy Management.

[FR Doc. 2024-06161 Filed 3-22-24; 8:45 am]

BILLING CODE 4340-98-P